DEPARTMENT OF HEALTH AND HUMAN SERVICES

Administration for Children and Families

[OMB No. 0970-0427]

Submission for OMB Review; Head Start Program Information Report

AGENCY: Office of Head Start, Administration for Children and Families, HHS.

ACTION: Request for public comment.

SUMMARY: The Administration for Children and Families' (ACF) is requesting a 3-year extension of the Head Start Program Information Report (PIR), Monthly Enrollment reporting instrument, and Center Locations and Contacts instrument (OMB #0970-0427, expiration 4/30/2022). OHS has made updates to these instruments, as described below.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: OHS is requesting an extension, with changes, of the Head Start PIR information collection authority. The following instruments are included in this information collection: (1) PIR, (2) Monthly Enrollment, and (3) Center Locations and Contacts. The PIR is used for federal program management purposes including to promote decision-making using data, is a major source of information used to respond to Congressional and public inquiries about Head Start programs, and is used often by researchers. Monthly enrollment reporting supports oversight activities related to promoting full enrollment of programs. Center locations and contact reporting is used to help parents locate a program in their community. In general, these information collections together create key administrative datasets to support administration of the program.

The proposed changes include new questions on the PIR to collect information on collaboration activities with Part C agencies and the average benefits provided to certain education staff as part of their compensation.

Additionally, new questions were added to the centers reporting to capture participation in a local or state Quality Rating Improvement System and licensing status for each center. Lastly, minor changes were made to these instruments for clarification purposes.

Respondents: Head Start Grant Recipients.

Annual Burden Estimates
Instrument | Annual number of respondents | Annual number of responses per respondent | Average burden hours per response | Annual burden hours
Head Start PIR | 1,600 | 2.25 | 1 | 3,600
Monthly Enrollment | 1,600 | 27 | 0.05 | 2,160
Center Locations and Contacts | 1,600 | 15 | 0.25 | 6,000

Estimated Total Annual Burden Hours: 11,760.

Authority: 42 U.S.C. 9801 et seq.

Mary B. Jones,
ACF/OPRE Certifying Officer.

[FR Doc. 2022-09053 Filed 4-27-22; 8:45 am]

BILLING CODE 4184-40-P